NATIONAL AERONAUTICS AND SPACE ADMINSTRATION

[Notice (04-045)]

Return to Flight Task Group; Meeting

AGENCY: National Aeronautics and Space Administration (NASA).

ACTION: Notice of meeting.

SUMMARY: In accordance with the Federal Advisory Committee Act, Pub. L. 92-463, as amended, the National Aeronautics and Space Administration announces a meeting of the Return to Flight Task Group (RTF TG).

DATES: Friday, April 16, 2004, from 8 a.m. until 11 a.m.

ADDRESSES: Webster Civic Center, 311 Pennsylvania, Webster, TX 77598.

FOR FURTHER INFORMATION CONTACT: Mr. David M. Lengyel at (281) 792-7523.

SUPPLEMENTARY INFORMATION: The meeting will be open to the public up to the seating capacity of the meeting room. Attendees will be requested to sign a register.

The agenda for the meeting is as follows:

—Welcome remarks from Co-Chair

—Status reports from Technical, Operations, and Management Panel Chairs on NASA's implementation of all Columbia Accident Investigation Board return to flight findings/recommendations

—Remarks from the Integrated Vehicle Assessment Sub-Panel

—Remarks from Editorial Sub-Panel

—Action item summary from Executive Secretary

—Closing remarks from Co-Chair

It is imperative that the meeting be held on this date to accommodate the scheduling priorities of the key participants.

Michael F. O'Brien,
Assistant Administrator for External Relations, National Aeronautics and Space Administration.

[FR Doc. 04-6193 Filed 3-18-04; 8:45 am]

BILLING CODE 7510-01-P